PEACE CORPS

2 CFR Part 3700

22 CFR Part 310

RIN 04420-AA19

Peace Corps Implementation of OMB Guidance on Nonprocurement Debarment and Suspension

AGENCY: Peace Corps.

ACTION: Direct final rule.

SUMMARY: The Peace Corps is establishing a new Part 3700 in 2 CFR that adopts the Office of Management and Budget's (OMB's) guidance in 2 CFR Part 180, as supplemented by this new part, as Peace Corps policies and procedures for nonprocurement debarment and suspension. The Peace Corps is also removing 22 CFR Part 310, the part containing the Peace Corps implementation of the government-wide common rule on nonprocurement debarment and suspension. 2 CFR Part 3700 would serve the same purpose as the common rule in a simpler way. These changes constitute an administrative simplification that would make no substantive change in Peace Corps policy or procedures for nonprocurement debarment and suspension.

DATES: This final rule is effective on January 8, 2007 without further action, unless adverse comment is received by Peace Corps by December 22, 2006. If adverse comment is received, Peace Corps will publish a timely withdrawal of the rule in the Federal Register.

ADDRESSES: You may submit comments by e-mail to nmiller@peacecorps.gov. Include RIN 0420-AA19 in the subject line of the message. You may also submit comments by mail to Nancy G. Miller, Office of the General Counsel, Peace Corps, Suite 8200, 1111 20th Street, NW., Washington, DC 20526. Contact Nancy G. Miller for copies of comments.

FOR FURTHER INFORMATION CONTACT: Nancy G. Miller, Associate General Counsel, 202-692-2150, nmiller@peacecorps.gov.

SUPPLEMENTARY INFORMATION:

Background

Peace Corps' current regulation on nonprocurement suspension and debarment is found in 22 CFR Part 310. This regulation is Peace Corps' promulgation of the government-wide “common rule” on this subject issued November 26, 2003 (68 FR 66586).

On August 31, 2005, the Office of Management and Budget (OMB) issued interim final guidance for government-wide nonprocurement suspension and debarment (70 FR 51863). This guidance, located in 2 CFR Part 180, is substantively the same as the common rule, but is published in a form that each agency can adopt, thus eliminating the need for each agency to publish its separate version of the same rule. It also facilitates the ability to update government-wide requirements without each agency having to re-promulgate its own rules.

The Peace Corps is therefore establishing new 2 CFR Part 3700, which adopts as its regulation the OMB guidance set forth in 2 CFR Part 180 as supplemented with the few required agency-specific provisions. Current 22 CFR Part 310 is being removed.

No substantive change in Peace Corps' nonprocurement suspension and debarment regulation is intended by these actions.

Executive Order 12866

OMB has determined this rule to be not significant.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by State, local, and tribal governments, in aggregate, or by the private sector of $100 million or more in any one year.

Paperwork Reduction Act of 1995 (44 U.S.C., Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects

2 CFR Part 3700

Administrative practice and procedure, Debarment and suspension, Grant programs, Reporting and recordkeeping requirements.

22 CFR Part 310

Administrative practice and procedure, Government contracts, Grant programs, Loan programs, Reporting and recordkeeping requirements, Technical assistance.

Accordingly, under the authority of 22 U.S.C. 2503(b), Peace Corps amends the Code of Federal Regulations, Title 2, Subtitle B, and Title 22, Chapter III, as follows:

Title 2—Grants and Agreements

1. Add Chapter 37, consisting of Part 3700, to Subtitle B to read as follows:

Chapter 37—Peace Corps

PART 3700—NONPROCUREMENT DEBARMENT AND SUSPENSION

Sec.
3700.10 What does this part do?
3700.20 Does this part apply to me?
3700.30 What policies and procedures must I follow?
3700.137 Who in the Peace Corps may grant an exception to let an excluded person participate in a covered transaction?
3700.220 What contracts and subcontracts, in addition to those listed in 2 CFR 180.220, are covered transactions?
3700.332 What methods must I use to pass requirements down to participants at lower tiers with whom I intend to do business?
3700.437 What method do I use to communicate to a participant the requirements described in the OMB guidance at 2 CFR 180.435?

Authority: Sec. 2455, Pub. L. 103-355, 108 Stat. 3327; E.O. 12549, 3 CFR, 1986 Comp., p. 189; E.O. 12689, 3 CFR, 1989 Comp., p. 235; 22 U.S.C. 2503(b).

§ 3700.10 What does this part do?

This part adopts the Office of Management and Budget (OMB) guidance in Subparts A through I of 2 CFR part 180, as supplemented by this part, as the Peace Corps policies and procedures for nonprocurement debarment and suspension. It thereby gives regulatory effect for the Peace Corps to the OMB guidance as supplemented by this part. This part satisfies the requirements in section 3 of Executive Order 12549, “Debarment and Suspension” (3 CFR 1986 Comp., p. 189), Executive Order 12689, “Debarment and Suspension” (3 CFR 1989 Comp., p. 235) and 31 U.S.C. 6101 note (Section 2455, Pub. L. 103-355, 108 Stat. 3327).

§ 3700.20 Does this part apply to me?

This part and, through this part, pertinent portions of the OMB guidance in Subparts A through I of 2 CFR part (see table at 2 CFR 180.100(b)) apply to you if you are a—

(a) Participant or principal in a “covered transaction” (see Subpart B of 2 CFR part 180 and the definition of “nonprocurement transaction” at 2 CFR 180.970);

(b) Respondent in a Peace Corps suspension or debarment action;

(c) Peace Corps debarment or suspension official; or

(d) Peace Corps grants officer, agreements officer, or other official authorized to enter into any type of nonprocurement transaction that is a covered transaction.

§ 3700.30 What policies and procedures must I follow?

The Peace Corps policies and procedures that you must follow are the policies and procedures specified in each applicable section of the OMB guidance in Subparts A through I of 2 CFR part 180, as that section is supplemented by the section in this part with the same section number. The contracts that are covered transactions, for example, are specified by section 220 of the OMB guidance (i.e., 2 CFR 180.220) as supplemented by section 220 in this part (i.e., § 3700.220). For any section of OMB guidance in Subparts A through I of 2 CFR 180 that has no corresponding section in this part, Peace Corps policies and procedures are those in the OMB guidance.

§ 3700.137 Who in the Peace Corps may grant an exception to let an excluded person participate in a covered transaction?

The Director of the Peace Corps has the authority to grant an exception to let an excluded person participate in a covered transaction, as provided in the OMB guidance at 2 CFR 180.135.

§ 3700.220 What contracts and subcontracts, in addition to those listed in 2 CFR 180.220, are covered transactions?

Although the OMB guidance at 2 CFR 180.220(c) allows a Federal agency to do so (also see optional lower tier coverage in the figure in the Appendix to 2 CFR part 180), Peace Corps does not extend coverage of nonprocurement suspension and debarment requirements beyond first-tier procurement contracts under a covered nonprocurement transaction.

§ 3700.332 What methods must I use to pass requirements down to participants at lower tiers with whom I intend to do business?

You as a participant must include a term or condition in lower-tier transactions requiring lower-tier participants to comply with Subpart C of the OMB guidance in 2 CFR part 180.

§ 3700.437 What method do I use to communicate to a participant the requirements described in the OMB guidance at 2 CFR 180.435?

To communicate to a participant the requirements described in 2 CFR 180.435 of the OMB guidance, you as an agency official must include a term or condition in the transaction that requires the participant's compliance with subpart C of 2 CFR part 180, and requires the participant to include a similar term or condition in lower-tier covered transactions.

Title 22—Foreign Relations

Chapter III—Peace Corps

2. Remove Part 310.

Dated: November 6, 2006.
Suzanne B. Glasow,
Acting General Counsel.

[FR Doc. 06-9369 Filed 11-21-06; 8:45 am]

BILLING CODE 6015-01-P